DEPARTMENT OF THE INTERIOR

National Indian Gaming Commission

Renewals of Information Collections Under the Paperwork Reduction Act

AGENCY: National Indian Gaming Commission, Interior.

ACTION: Notice of request for comments.

SUMMARY: In compliance with the Paperwork Reduction Act of 1995, the National Indian Gaming Commission (NIGC or Commission) is seeking comments on the renewal of information collections for the following activities: (i) Compliance and enforcement actions under the Indian Gaming Regulatory Act as authorized by Office of Management and Budget (OMB) Control Number 3141-0001; (ii) approval of tribal ordinances, and background investigation and issuance of licenses as authorized by OMB Control Number 3141-0003; (iii) National Environmental Policy Act submissions as authorized by OMB Control Number 3141-0006; and (iv) issuance to tribes of certificates of self-regulation for Class II gaming as authorized by OMB Control Number 3141-0008. These information collections all expire on October 31, 2013.

DATES: Submit comments on or before September 6, 2013.

ADDRESSES: Comments can be mailed, faxed, or emailed to the attention of: Armando J. Acosta, National Indian Gaming Commission, 1441 L Street NW., Suite 9100, Washington, DC 20005. Comments may be faxed to (202) 632-7066 and may be sent electronically to info@nigc.gov, subject: PRA renewals.

FOR FURTHER INFORMATION CONTACT: Armando J. Acosta at (202) 632-7003; fax (202) 632-7066 (not toll-free numbers).

SUPPLEMENTARY INFORMATION:

I. Request for Comments

You are invited to comment on these collections concerning: (i) Whether the collections of information are necessary for the proper performance of the functions of the agency, including whether the information will have practical utility; (ii) the accuracy of the agency's estimates of the burdens (including the hours and cost) of the proposed collections of information, including the validity of the methodologies and assumptions used; (iii) ways to enhance the quality, utility, and clarity of the information to be collected; (iv) ways to minimize the burdens of the information collections on those who are to respond, including through the use of appropriate automated, electronic, mechanical, or other collection techniques or forms of information technology. Please note that an agency may not conduct or sponsor, and an individual need not respond to, a collection of information unless it has a valid OMB Control Number.

It is the Commission's policy to make all comments available to the public for review at the location listed in the ADDRESSES section. Before including your address, phone number, email address, or other personal identifying information in your comment, you should be aware that your entire comment—including your personal identifying information—may be made publicly available at any time. While you may ask in your comment that the Commission withhold your personal identifying information from public review, the Commission cannot guarantee that it will be able to do so.

II. Data

Title: Indian Gaming Compliance and Enforcement.

OMB Control Number: 3141-0001.

Brief Description of Collection: The Indian Gaming Regulatory Act (IGRA or the Act), 25 U.S.C. 2701 et seq., governs the regulation of gaming on Indian lands. Although IGRA places primary responsibility with the tribes for regulating their Class II gaming activities, § 2706(b) directs the Commission to monitor Class II gaming conducted on Indian lands on a continuing basis. Amongst other actions necessary to carry out the Commission's statutory duties, the Act authorizes the Commission to access and inspect all papers, books, and records relating to gross revenues of a Class II gaming operation. The Act also requires tribes to provide the Commission with annual independent audits of their gaming operations, including audits of all contracts in excess of $25,000. 25 U.S.C. 2710(b)(2)(C), (D); 2710(d)(1)(A)(ii). In accordance with these statutory mandates, Commission regulations require Indian gaming operations to keep and maintain permanent financial records, and to submit to the Commission independent audits of their gaming operations on an annual basis. This information collection is mandatory and allows the Commission to fulfill its statutory responsibilities under IGRA to regulate Class II gaming on Indian lands.

Respondents: Indian tribal gaming operations.

Estimated Number of Respondents: 1268.

Estimated Annual Responses: 1268.

Estimated Time per Response: Depending on the type of information collection, the range of time can vary from 20.5 burden hours to 1506.75 burden hours for one item.

Frequency of Responses: 1 per year.

Estimated Total Annual Burden Hours on Respondents: 1,065,955.5.

Estimated Total Non-hour Cost Burden: $50,665,016.

Title: Approval of Class II and Class III Ordinances, Background Investigations, and Gaming Licenses.

OMB Control Number: 3141-0003.

Brief Description of Collection: The Act sets standards for the regulation of gaming on Indian lands, including requirements for the approval or disapproval of tribal gaming ordinances. Section 2705(a)(3) requires the NIGC Chair to review all Class II and Class III tribal gaming ordinances. In accordance with this statutory provision, Commission regulations require tribes to submit: (i) A copy of the gaming ordinance, or amendment thereof, to be approved, including a copy of the authorizing resolution by which it was enacted by the tribal government, and a request for approval of the ordinance or resolution; (ii) designation of an agent for service of process; (iii) a description of procedures the tribe will employ in conducting background investigations on primary management officials (PMOs) and key employees; (iv) a description of procedures the tribe will use to issue licenses to PMOs and key employees; (v) copies of all gaming regulations; (vi) a copy of any applicable tribal-state compact; (vii) a description of dispute resolution procedures for disputes arising between the gaming public and the tribe or management contractor; and (viii) identification of the law enforcement agency that will take fingerprints and a description of the procedures for conducting criminal history checks. The Commission also requires a tribal ordinance to provide that the tribe will perform background investigations and issue licenses for PMOs and key employees according to requirements that are as stringent as those contained in Commission regulations. The NIGC Chair will use the information collected to approve or disapprove the ordinance or amendment thereof.

Commission regulations also require tribes to perform background investigations and issue licenses for PMOs and key employees using certain information provided by applicants, such as names, addresses, previous employment records, previous relationships with either Indian tribes or the gaming industry, licensing related to those relationships, any convictions, and any other information that a tribe feels is relevant to the employment of the individuals being investigated. Tribes are then required to keep complete application files. Tribes are also required to create and keep investigative reports, and to submit to the Commission notices of results (licensing eligibility determinations) on PMOs and key employees. Tribes must notify the Commission if they issue or do not issue licenses to PMOs and key employees, and if they revoke said licenses. The Commission uses this information to review the eligibility and suitability determinations that tribes make and advises them if it disagrees with any particular determination. These information collections are mandatory and allow the Commission to carry out its statutory duties.

Respondents: Indian tribal gaming operations.

Estimated Number of Respondents: 1,580.

Estimated Annual Responses: 193,751.

Estimated Time per Response: Depending on the type of information collection, the range of time can vary from 1.0 burden hour to 1,419 burden hours for one item.

Frequency of Response: Varies.

Estimated Total Annual Burden Hours on Respondents: 1,392,450.

Estimated Total Non-hour Cost Burden: $3,334,176.

Title: NEPA Compliance.

OMB Control Number: 3141-0006.

Brief Description of Collection: The National Environmental Policy Act (NEPA) requires federal agencies to analyze proposed major federal actions that significantly affect the quality of the human environment. The Commission has identified one type of action that it undertakes that requires review under NEPA—approving third-party management contracts for the operation of gaming activity under IGRA. Depending on the nature of the subject contract and other circumstances, approval of such management contracts may be categorically excluded from NEPA, may require the preparation of an Environmental Assessment (EA), or may require the preparation of an Environmental Impact Statement (EIS). In any case, the proponents of a management contract will be expected to submit information to the Commission and assist in the development of the required NEPA documentation.

Respondents: Tribal governing bodies, management companies.

Estimated Number of Respondents: 3.

Estimated Annual Responses: 3.

Estimated Time per Response: Depending on whether the response is an EA or an EIS, the range of time can vary from 2.5 burden hours to 12.0 burden hours for one item.

Frequency of Response: Varies.

Estimated Total Annual Burden Hours on Respondents: 26.5.

Estimated Total Non-hour Cost Burden: $14,846,686.

Title: Issuance of Certificates of Self-Regulation to Tribes for Class II Gaming.

OMB Control Number: 3141-0008.

Brief Description of Collection: The Act allows any Indian tribe that has conducted Class II gaming for at least three years to petition the Commission for a certificate of self-regulation for its Class II gaming operation(s). The Commission will issue the certificate if it determines that the tribe has conducted its gaming activities in a manner that has: Resulted in an effective and honest accounting of all revenues; a reputation for safe, fair, and honest operation of the gaming activities; and an enterprise free of evidence of criminal or dishonest activity. The tribe must also have adopted and implemented proper accounting, licensing, and enforcement systems, and conducted the gaming operation on a fiscally or economically sound basis. Commission regulations require a tribe interested in receiving a certificate to file with the Commission a petition generally describing the tribe's gaming operations, its regulatory process, its uses of net gaming revenue, and its accounting and recordkeeping systems. The tribe must also provide copies of various documents in support of the petition. Tribes who have been issued a certificate of self-regulation are required to submit to the Commission certain information on an annual basis, including information that establishes that the tribe continuously meets the regulatory eligibility and approval requirements and supporting documentation that explains how tribal gaming revenues were used in accordance with the requirements in 25 U.S.C. 2710(b)(2)(B). Submission of the petition and supporting documentation is voluntary. The Commission will use the information submitted by the tribe in determining whether to issue the certificate of self-regulation. Once a certificate of self-regulation has been issued, the submission of certain other information is mandatory.

Respondents: Tribal governments.

Estimated Number of Respondents: 8.

Estimated Annual Responses: 64.

Estimated Time per Response: Depending on the information collection, the range of time can vary from 0.75 burden hour to 1,940 burden hours for one item.

Frequency of Responses: Varies.

Estimated Total Annual Burden Hours on Respondents: 4,130.

Estimated Total Non-hour Cost Burden: $172,450.

Dated: July 1, 2013.
Christinia J. Thomas,
Deputy Chief of Staff.

[FR Doc. 2013-16179 Filed 7-5-13; 8:45 am]

BILLING CODE 7565-01-P